DEPARTMENT OF ENERGY

Federal Energy Regulatory Commission

Notice of Modification to Recreational Release Flows and Soliciting Comments, Motions to Intervene, and Protests

August 28, 2002.

Take notice that the following application has been filed with the Commission and is available for public inspection:

a: Application Type: Request to modify the recreational flow releases for the remainder of the 2002 rafting season.

b: Project No. 432-076.

c: Date Filed: August 14, 2002.

d. Applicant: Carolina Power & Light Company.

e. Name of Project: Walters Hydroelectric Project.

f. Location: The project is located on the Pigeon River in Haywood County, North Carolina.

g. Filed Pursuant to: Federal Power Act, 16 U.S.C. 791 (a) 825(r) and 799 and 801.

h. Applicant Contact: Larry Mann, Carolina Power & Light, Tillery Hydro Plant, 179 Tillery Dam Road, Mt. Gilead, NC 27306.

i. FERC Contact: Any questions on this notice should be addressed to Jean Potvin at (202) 502-8928, or e-mail address: jean.potvin@ferc.gov.

j. Deadline for filing comments and or motions: September 13, 2002.

All documents (original and eight copies) should be filed with: Ms. Magalie R. Salas, Secretary, Federal Energy Regulatory Commission, 888 First Street, NE, Washington, DC 20426. Please include the following number (P-432-076) on any comments or motions filed.

k. Description of Request: The licensee has requested a modification to make flow releases of 1000 cfs between the hours of 12:30-5:30 pm on Saturdays only. Required releases are 3 weekdays per week from Saturday of Memorial Day weekend through Saturday of Labor Day weekend and on all Saturdays and 4 weekdays per week two weeks prior to Memorial Day weekend and two weeks after Labor Day weekend. The licensee consulted with the Tennessee Wildlife Resources Agency and the Pigeon River Rafters Association. On August 15, 2002, the Commission granted the licensee's request, but reserved authority to require changes in operation based upon comments received from this notice.

l. Location of Application: This filing is available for review at the Commission in the Public Reference Room or may be viewed on the Commission's website at http://www.ferc.gov using the “FERRIS” link. Enter the docket number excluding the last three digits in the docket number field to access the document. For assistance, call (202) 502-8371 or for TTY, (202) 208-1659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See 18 CFR 385.2001(a)(1)(iii) and the instructions on the Commission's Web site at http://www.ferc.gov under the “e-Filing” link.

Linwood A. Watson, Jr.,
Deputy Secretary.

[FR Doc. 02-22477 Filed 9-3-02; 8:45 am]

BILLING CODE 6717-01-P